DEPARTMENT OF TRANSPORTATION

Federal Railroad Administration

[Docket Number FRA-2010-0180]

Petition for Extension of Waiver of Compliance

Under part 211 of title 49 Code of Federal Regulations (CFR), this document provides the public notice that on April 7, 2021, the Denton County Transit Authority (DCTA) petitioned the Federal Railroad Administration (FRA) for an extension of a waiver of compliance from certain provisions of the Federal railroad safety regulations contained at 49 CFR parts 229, Railroad Locomotive Safety Standards; 231, Railroad Safety Appliance Standards; 238, Passenger Equipment Safety Standards; and 239, Passenger Train Emergency Preparedness. The relevant FRA Docket Number is FRA-2010-0180.

Specifically, DCTA is requesting an extension of its existing relief from the following regulations:

• 49 CFR 229.31, Main reservoir tests; 229.47, Emergency brake valve; 229.51, Aluminum main reservoirs; 229.71, Clearance above top of rail; 229.135, Event recorders; and Appendix D, Criteria for Certification of Crashworthy Event Recorder Memory Module;

• 49 CFR 231.14, Passenger-train cars without end platforms;

• 49 CFR 238.115, Emergency lighting; 238.121, Emergency communication; 238.223, Locomotive fuel tanks; 238.305, Interior calendar day mechanical inspection of passenger cars; 238.309, Periodic brake equipment maintenance; and Appendix D, Requirements for External Fuel Tanks on Tier I Locomotives; and

• 49 CFR 239.101, Emergency preparedness plan.

DCTA requests this extension of relief to continue operation of its Stadler diesel multiple-unit vehicles, which were constructed to meet European safety standards for crashworthiness and related safety measures.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

Communications received by June 11, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-08735 Filed 4-26-21; 8:45 am]

BILLING CODE 4910-06-P